FEDERAL DEPOSIT INSURANCE CORPORATION

[OMB No. 3064-0095; -0117]

Agency Information Collection Activities: Proposed Collection Renewal; Comment Request

AGENCY: Federal Deposit Insurance Corporation (FDIC).

ACTION: Agency information collection activities: Submission for OMB review; comment request.

SUMMARY: The FDIC, as part of its obligations under the Paperwork Reduction Act of 1995, invites the general public and other Federal agencies to take this opportunity to comment on the request to renew the existing information collections described below (OMB Control No. 3064-0095; and -0117). The notice of the proposed renewal for these information collections was previously published in the Federal Register on January 25, 2022, allowing for a 60-day comment period.

DATES: Comments must be submitted on or before April 21, 2022.

ADDRESSES: Interested parties are invited to submit written comments to the FDIC by any of the following methods:

• Agency Website: https://www.fdic.gov/resources/regulations/federal-register-publications/index.html.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

Written comments and recommendations for the proposed information collection should be sent within 30 days of publication of this notice to www.reginfo.gov/public/do/PRAMain. Find this particular information collection by selecting “Currently under 30-day Review—Open for Public Comments” or by using the search function.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collections of information:

1. Title: Procedures for Monitoring Bank Protection Act Compliance

OMB Number: 3064-0095.

Form Number: None.

Affected Public: Insured state nonmember banks.

Burden Estimate:

Summary of Estimated Annual Burdens
[OMB No. 3064-0095]
IC Description | Type of burden (obligation to respond) | Frequency of response | Number of respondents | Number of responses per respondent | Hours per response | Annual burden (hours)
Implementation Burden:
Bank Protection Act Compliance Program—Institutions with an Asset Size Less than $500 million | Recordkeeping (Mandatory) | Annually | 35 | 1 | 50 | 1,750
Bank Protection Act Compliance Program—Medium-Sized Institutions ($500 million—$10 billion) | Recordkeeping (Mandatory) | Annually | 57 | 1 | 300 | 17,100
Bank Protection Act Compliance Program—Large Institutions (Over $10 billion) | Recordkeeping (Mandatory) | Annually | 12 | 1 | 500 | 6,000
Ongoing Burden:
Bank Protection Act Compliance Program—Routine Revisions | Recordkeeping (Mandatory) | Annually | 2,880 | 1 | 5 | 14,400
Bank Protection Act Compliance Program—Significant Revisions | Recordkeeping (Mandatory) | Annually | 320 | 1 | 35 | 11,200
Total Annual Burden Hour: |  |  |  |  |  | 50,450
Source: FDIC.

General Description of Collection: The collection requires insured state nonmember banks to comply with the Bank Protection Act and to review bank security programs The Bank Protection Act of 1968 (12 U.S.C. 1881-1884) requires each Federal supervisory agency to promulgate rules establishing minimum standards for security devices and procedures to discourage financial crime and to assist in the identification of persons who commit such crimes. To avoid the necessity of constantly updating a technology-based regulation, the FDIC takes a flexible approach to implementing this statute. It requires each insured nonmember bank to designate a security officer who will administer a written security program. The security program must: (1) Establish procedures for opening and closing for business and for safekeeping valuables; (2) establish procedures that will assist in identifying persons committing crimes against the bank; (3) provide for initial and periodic training of employees in their responsibilities under the security program; and (4) provide for selecting, testing, operating and maintaining security devices as prescribed in the regulation. In addition, the FDIC requires the security officer to report at least annually to the bank's board of directors on the effectiveness of the security program.

There is no change in the method or substance of the collection. The 48,683 increase in burden hours is the result of the agency re-evaluating the time it takes for recordkeeping and reporting associated with the rule, and including new implementation burdens for new entities and entities reviewing their policies in light of mergers and other organizational changes.

2. Title: Mutual-to-Stock Conversion of State Savings Banks.

OMB Number: 3064-0117.

Form Numbers: None.

Affected Public: Insured state savings associations.

Burden Estimate:

Summary of Estimated Annual Burden
[OMB No. 3064-0117]
Information collection description | Type of burden (obligation to respond) | Frequency of response | Number of respondents | Hours per response | Annual burden (hours)
Application or Notice to engage in certain activities | Reporting | On occasion | 5 | 250 | 1,250
Total Annual Burden (Hours) |  |  |  |  | 1,250
Source: FDIC.

General Description of Collection: State savings associations must file a notice of intent to convert to stock form, and provide the FDIC with copies of documents filed with state and federal banking and/or securities regulators in connection with any proposed mutual-to-stock conversion. There is no change in the method or substance of the collection.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on March 15, 2022.
James P. Sheesley,
Assistant Executive Secretary.

[FR Doc. 2022-05953 Filed 3-21-22; 8:45 am]

BILLING CODE 6714-01-P